PRESIDIO TRUST

Notice of Public Meeting

AGENCY: The Presidio Trust.

ACTION: Notice of public meeting.

SUMMARY: In accordance with § 103(c)(6) of the Presidio Trust Act, 16 U.S.C. 460bb appendix, and in accordance with the Presidio Trust's bylaws, notice is hereby given that a public meeting of the Presidio Trust Board of Directors will be held commencing 6:00 p.m. on Thursday, September 28, 2017, at the Officers' Club, 50 Moraga Avenue, Presidio of San Francisco, California.

The purposes of this meeting are: To approve the minutes of a previous Board meeting; to provide the Chief Executive Officer's report; to receive reports from Board members and committees; to receive public input on the rehabilitation of Fort Scott buildings as a place where the environmental and social challenges of our day are addressed; and to receive public comment on other matters pertaining to Trust business.

Individuals requiring special accommodation at this meeting, such as needing a sign language interpreter, should contact Mollie Matull at 415.561.5300 prior to September 21, 2017.

Time: The meeting will begin at 6:00 p.m. on Thursday, September 28, 2017.

ADDRESSES: The meeting will be held at the Officers' Club, 50 Moraga Avenue, Presidio of San Francisco.

FOR FURTHER INFORMATION CONTACT: Nancy J. Koch, General Counsel, the Presidio Trust, 103 Montgomery Street, P.O. Box 29052, San Francisco, California 94129-0052, Telephone: 415.561.5300.

Dated: August 17, 2017.
Jean S. Fraser,
Chief Executive Officer.

[FR Doc. 2017-17835 Filed 8-22-17; 8:45 am]

BILLING CODE 4310-4R-P